ENVIRONMENTAL PROTECTION AGENCY

[EPA-HQ-OPPT-2011-0768; FRL-8889-6]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Chemical Substances Inventory (TSCA Inventory)) to notify EPA and comply with the statutory provisions pertaining to the manufacture of new chemicals. Under TSCA sections 5(d)(2) and 5(d)(3), EPA is required to publish in the Federal Register a notice of receipt of a premanufacture notice (PMN) or an application for a test marketing exemption (TME), and to publish in the Federal Register periodic status reports on the new chemicals under review and the receipt of notices of commencement (NOC) to manufacture those chemicals. This document, which covers the period from July 1, 2011 to August 26, 2011, and provides the required notice and status report, consists of the PMNs and TMEs, both pending or expired, and the NOC to manufacture a new chemical that the Agency has received under TSCA section 5 during this time period.

DATES: Comments identified by the specific PMN number or TME number, must be received on or before October 21, 2011.

ADDRESSES: Submit your comments, identified by docket identification (ID) number EPA-HQ-OPPT-2011-0768, and the specific PMN number or TME number for the chemical related to your comment, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. The DCO is open from 8 a.m. to 4 p.m., Monday through Friday, excluding legal holidays. The telephone number for the DCO is (202) 564-8930. Such deliveries are only accepted during the DCO's normal hours of operation, and special arrangements should be made for deliveries of boxed information.

Instructions: EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For technical information contact: Bernice Mudd, Information Management Division (7407M), Office of Pollution Prevention and Toxics, Environmental Protection Agency, 1200 Pennsylvania Ave., NW., Washington, DC 20460-0001; telephone number: (202) 564-8951; fax number: (202) 564-8955; e-mail address: mudd.bernice@epa.gov.

For general information contact: The TSCA-Hotline, ABVI-Goodwill, 422 South Clinton Ave., Rochester, NY 14620; telephone number: (202) 554-1404; e-mail address: TSCA-Hotline@epa.gov.

SUPPLEMENTARY INFORMATION:

I. General Information

A. Does this action apply to me?

This action is directed to the public in general. As such, the Agency has not attempted to describe the specific entities that this action may apply to. Although others may be affected, this action applies directly to the submitter of the PMNs addressed in this action. If you have any questions regarding the applicability of this action to a particular entity, consult the person listed under FOR FURTHER INFORMATION CONTACT.

B. What should I consider as I prepare my comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Why is EPA taking this action?

EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm. Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/opt/newchems.

Under TSCA sections 5(d)(2) and 5(d)(3), EPA is required to publish in the Federal Register a notice of receipt of a PMN or an application for a TME and to publish in the Federal Register periodic status reports on the new chemicals under review and the receipt of NOCs to manufacture those chemicals. This status report, which covers the period from July 1, 2011 to August 26, 2011, consists of the PMNs and TMEs, both pending or expired, and the NOCs to manufacture a new chemical that the Agency has received under TSCA section 5 during this time period.

III. Receipt and Status Reports

In Table I. of this unit, EPA provides the following information (to the extent that such information is not claimed as CBI) on the PMNs received by EPA during this period: The EPA case number assigned to the PMN, the date the PMN was received by EPA, the projected end date for EPA's review of the PMN, the submitting manufacturer/importer, the potential uses identified by the manufacturer/importer in the PMN, and the chemical identity.

Table I—131 PMNs Received From July 1, 2011 to August 26, 2011
Case No. | Received date | Projected notice end date | Manufacturer/importer | Use | Chemical
P-11-0478 | 7/1/2011 | 9/28/2011 | CBI | (S) Textile wet processing enhancer | (G) Amino-modified polyalkyleneoxide silicone copolymer.
P-11-0479 | 7/1/2011 | 9/28/2011 | CBI | (S) Intermediate for rubber processing additives | (G) Vinylalkoxysilane.
P-11-0480 | 7/1/2011 | 9/28/2011 | CBI | (G) Processing additive intermediate | (G) Mercaptoalkoxysilane.
P-11-0481 | 7/6/2011 | 10/3/2011 | Ferro Corporation | (G) Additive for polymers | (S) 1,2-cyclohexanedicarboxylic acid, 1-butyl 2-(phenylmethyl) ester.
P-11-0482 | 7/8/2011 | 10/5/2011 | CBI | (G) Specialty additive | (G) Carbon nanotubes.
P-11-0483 | 7/8/2011 | 10/5/2011 | CBI | (G) Chemical intermediate | (G) Alkyl thiol.
P-11-0484 | 7/8/2011 | 10/5/2011 | CBI | (G) Surfactant | (G) Alkyl sulfate salt.
P-11-0485 | 7/8/2011 | 10/5/2011 | CBI | (G) Hardener for industrial coatings | (G) Polyoxyalkylene ether, polymer with aliphatic diisocyanate, homopolymer, alkanol-blocked.
P-11-0486 | 7/8/2011 | 10/5/2011 | Asahi Kasei America, Inc | (G) Hardener for industrial coatings | (G) Alkyl substituted alkanediol polymer with aliphatic and alicyclic diisocyanates.
P-11-0487 | 7/8/2011 | 10/5/2011 | CBI | (G) Surfactant | (G) Alkyl polyamide.
P-11-0488 | 7/8/2011 | 10/5/2011 | CBI | (G) Hardener for industrial coatings | (G) Aliphatic diisocyanate, homopolymer, alkanol-blocked.
P-11-0489 | 7/8/2011 | 10/5/2011 | CBI | (G) Hardener for industrial coatings | (G) Aliphatic diisocyanate polymer with alkanediol and alkylglycol.
P-11-0490 | 7/8/2011 | 10/5/2011 | Sasol North America | (S) Anti-graying agent in fabric washes | (S) 1,4-benzenedicarboxylic acid, 1,4-dimethyl ester, polymer with 1,2-ethanediol and 1,2,3-propanetriol, ester with .alpha.-methyl-.omega.-hydroxypoly(oxy-1,2-ethanediyl).
P-11-0491 | 7/8/2011 | 10/5/2011 | Sasol North America | (S) Anti-graying agent in fabric washes | (S) 1,4-benzenedicarboxylic acid, 1,4-dimethyl ester, polymer with 1,2-propanediol, ester with .alpha.-methyl-.omega.-hydroxypoly(oxy-1,2-ethanediyl).
P-11-0492 | 7/8/2011 | 10/5/2011 | CBI | (G) Raw material | (G) Glycine derivative.
P-11-0493 | 7/5/2011 | 10/2/2011 | CBI | (G) Chelating agent for hydrogen sulfide removal | (G) Aminocarboxylic acid iron chelate complex.
P-11-0494 | 7/5/2011 | 10/2/2011 | CBI | (G) Chelating agent for hydrogen sulfide removal | (G) Aminocarboxylic acid iron chelate complex.
P-11-0495 | 7/5/2011 | 10/2/2011 | CBI | (G) Chelating agent for hydrogen sulfide removal | (G) Aminocarboxylic acid iron chelate complex.
P-11-0496 | 7/5/2011 | 10/2/2011 | CBI | (G) Chelating agent for hydrogen sulfide removal | (G) Aminocarboxylic acid iron chelate complex.
P-11-0497 | 7/5/2011 | 10/2/2011 | CBI | (G) Chelating agent for hydrogen sulfide removal | (G) Aminocarboxylic acid iron chelate complex.
P-11-0498 | 7/12/2011 | 10/9/2011 | GE Water & Process Technologies | (S) Heavy metal precipitant for wastewater | (G) Sodium polyethylenimine dithiocarbamate, polymeric dithiocarbamate.
P-11-0499 | 7/12/2011 | 10/9/2011 | Sika Corporation | (G) Water soluable polyamine curing agent for epoxy coatings | (S) Phenol, 4,4'-(1-methylethylidene)bis-, polymer with 5-amino-1,3,3-trimethylcyclohexanemethanamine, n1,n2-bis(2-aminoethyl)-1,2-ethanediamine, 2-(chloromethyl) oxirane, .alpha.-hydro-.omega.-hydroxypoly[oxy(methyl-1,2-ethanediyl)], 2,2'-[(1-methylethylidene)bis(4,1-phenyleneoxymethylene)]bis[oxirane] and .alpha.-(2-oxiranylmethyl)-.omega.-(2-oxiranylmethoxy)poly[oxy(methyl-1,2-ethanediyl)], reaction products with 2-[[4-(1,1-dimethylethyl)phenoxy]methyl]oxirane, acetates (salts).
P-11-0500 | 7/12/2011 | 10/9/2011 | CBI | (G) Processing additive | (G) Polysulfide silane.
P-11-0501 | 7/1/2011 | 9/28/2011 | CBI | (G) Adhesive | (G) Alkyldioic acid, polymer with alkyl acrylate, alkenearomatic, alkyldiol, hydroxyalkyl methacrylate, aromatic isocyanate, alkyl methacrylate and acrylic acid.
P-11-0502 | 7/14/2011 | 10/11/2011 | CBI | (G) Acrylic pressure sensitive adhesive | (G) Acrylic solution polymer.
P-11-0503 | 7/15/2011 | 10/12/2011 | CBI | (G) Pigment formulation additive | (G) Siloxanes and silicones, 3-aminoalkyl, hydroxy terminated.
P-11-0504 | 7/13/2011 | 10/10/2011 | CBI | (S) Binder for ultra violet curable coatings | (G) Ultra violet curable polyurethane acrylate.
P-11-0505 | 7/14/2011 | 10/11/2011 | CBI | (S) Polymer for can coatings | (G) Polyester polymer.
P-11-0506 | 7/14/2011 | 10/11/2011 | CBI | (G) Polymer backbone for further processing | (G) Polyaminoamide.
P-11-0507 | 7/14/2011 | 10/11/2011 | CBI | (S) Wastewater heavy metals removal | (G) Polymeric sulfide.
P-11-0508 | 7/18/2011 | 10/15/2011 | Dow Chemical Company | (G) Inert ingredient | (G) Acrylic polymer.
P-11-0509 | 7/18/2011 | 10/15/2011 | CBI | (S) Wire & cable insulation; film; injection molding | (G) Etfe, ethylene-tetrafluoroethylene copolymer.
P-11-0510 | 7/18/2011 | 10/15/2011 | IGM Resins Inc | (G) Ultra violet initiator | (S) Poly(oxy-1,2-ethanediyl), .alpha.-[4-(dimethylamino)benzoyl]-, .omega.-[[4-(dimethylamino)benzoyl]oxy]- (ca index name).
P-11-0511 | 7/18/2011 | 10/15/2011 | CBI | (G) Petroleum substitute base | (G) C15 olefins.
P-11-0512 | 7/18/2011 | 10/15/2011 | CBI | (G) Petroleum substitutes | (G) C15 paraffinic hydrocarbon.
P-11-0513 | 7/18/2011 | 10/15/2011 | CBI | (G) Intermediate petroleum substitutes | (G) Highly branched isoolefinic hydrocarbons.
P-11-0514 | 7/18/2011 | 10/15/2011 | CBI | (G) Intermediate petroleum substitutes | (G) Highly branched isoolefinic hydrocarbons.
P-11-0515 | 7/18/2011 | 10/15/2011 | CBI | (G) Intermediate petroleum substitutes | (G) Highly branched isoolefinic hydrocarbons.
P-11-0516 | 7/18/2011 | 10/15/2011 | CBI | (G) Intermediate petroleum substitutes | (G) Highly branched isoparaffinic hydrocarbons.
P-11-0517 | 7/18/2011 | 10/15/2011 | CBI | (G) Intermediate petroleum substitutes | (G) Highly branched isoparaffinic hydrocarbons.
P-11-0518 | 7/18/2011 | 10/15/2011 | CBI | (G) Intermediate petroleum substitutes | (G) Highly branched isoparaffinic hydrocarbons.
P-11-0519 | 7/18/2011 | 10/15/2011 | CBI | (G) Petroleum substitutes | (G) Highly branched isoparaffinic hydrocarbons.
P-11-0520 | 7/18/2011 | 10/15/2011 | CBI | (G) Petroleum substitutes | (G) Highly branched isoparaffinic hydrocarbons.
P-11-0521 | 7/18/2011 | 10/15/2011 | CBI | (G) Petroleum substitutes | (G) Highly branched isoparaffinic hydrocarbons.
P-11-0522 | 7/18/2011 | 10/15/2011 | CBI | (G) Petroleum substitute | (G) Highly branched isoparaffinic hydrocarbons.
P-11-0523 | 7/18/2011 | 10/15/2011 | CBI | (G) Petroleum substitute | (G) Highly branched isoparaffinic hydrocarbons.
P-11-0524 | 7/18/2011 | 10/15/2011 | CBI | (G) Petroleum substitute | (G) Highly branched isoparaffinic hydrocarbons.
P-11-0525 | 7/19/2011 | 10/16/2011 | CBI | (G) Material for semi-conductor | (G) Oxibiscarbomonocyclic acid, polymer wth oxibis[heteropolycyclic ketone], (alkyl(c-1-5)substituted) bis [alkane(c-2-6)amine],[halo(haloalkyl(c-1-5))alkylidene]bis[aminocarbomonocyclic alcohol] and [[halo(haloalkyl(c-1-5))alkylidene]]bis(hydroxycarbomonocycle)]bis[aminobenzamide].
P-11-0526 | 7/19/2011 | 10/16/2011 | CBI | (G) Surface active agent | (G) Amphoteric fluorinated surfactant.
P-11-0527 | 7/20/2011 | 10/17/2011 | CBI | (G) Chemical intermediate | (G) Substituted fluoroalkane.
P-11-0528 | 7/20/2011 | 10/17/2011 | CBI | (G) Chemical intermediate | (G) Fluorinated thiol.
P-11-0529 | 7/20/2011 | 10/17/2011 | CBI | (G) Chemical intermediate | (G) Fluorinated monomer.
P-11-0530 | 7/20/2011 | 10/17/2011 | CBI | (G) Surfactant | (G) Fluoropolyacrylamide.
P-11-0531 | 7/20/2011 | 10/17/2011 | CBI | (S) Dye intermediate | (G) Diazo substituted copper salt.
P-11-0532 | 7/20/2011 | 10/17/2011 | CBI | (G) Chemical intermediate | (G) Polyfluoroalkyl amine.
P-11-0533 | 7/20/2011 | 10/17/2011 | CBI | (G) Surfactant | (G) Non-ionic fluorosurfactant.
P-11-0534 | 7/20/2011 | 10/17/2011 | CBI | (G) Surfactant | (G) Anioinic fluorosurfactant.
P-11-0535 | 7/21/2011 | 10/18/2011 | CBI | (S) Leather processing waterproofing agent | (G) Carboxy functional polydimethylsiloxane.
P-11-0536 | 7/21/2011 | 10/18/2011 | CBI | (S) Leather processing waterproofing agent | (G) Modified aminosiloxane.
P-11-0537 | 7/22/2011 | 10/19/2011 | CBI | (G) Colourant | (G) Pyrazole azo thiadiazole derivative.
P-11-0538 | 7/22/2011 | 10/19/2011 | H.B. Fuller Company | (G) Industrial adhesive | (G) Mixture of: acrylic polymer with polymerized organic acid, potassium salt and organic acid, potassium salt.
P-11-0539 | 7/22/2011 | 10/19/2011 | H.B. Fuller Company | (G) Industrial adhesive | (G) Mixture of: acrylic polymer with polymerized organic acid, compd. with 2-aminoethanol and organic acid, 2-aminoethanol salt.
P-11-0540 | 7/22/2011 | 10/19/2011 | H.B. Fuller Company | (G) Industrial adhesive | (G) Mixture of: acrylic polymer with polymerized organic acid, ammonium salt and organic acid, ammonium salt.
P-11-0541 | 7/22/2011 | 10/19/2011 | H.B. Fuller Company | (G) Industrial adhesive | (G) Mixture of: acrylic polymer with polymerized organic acid, sodium salt and organic acid, sodium salt.
P-11-0542 | 7/22/2011 | 10/19/2011 | H.B. Fuller Company | (G) Industrial adhesive | (G) Mixture of: acrylic polymer with polymerized organic acid, potassium salt and organic acid, potassium salt.
P-11-0543 | 7/26/2011 | 10/23/2011 | CBI | (G) Surfactant | (G) Polyfluorinated alkyl quaternary amine chloride.
P-11-0544 | 7/27/2011 | 10/24/2011 | CBI | (G) Colourant | (G) Diazopyridine derivative.
P-11-0545 | 7/28/2011 | 10/25/2011 | CBI | (G) Chemical intermediate | (G) Substituted hydrogen phosphite.
P-11-0546 | 7/27/2011 | 10/24/2011 | Chemetall Foote Corporation | (S) Brazing (metal joining) agent | (S) Silicate (2-) hexafluoro-cesium.
P-11-0547 | 7/27/2011 | 10/24/2011 | ICL-IP America Inc | (G) The final formulation is a halogen-free flame retardant pmn that will be coated on the surface of composite or textile surface | (G) Phosphoric acid, inorganic salt.
P-11-0548 | 7/28/2011 | 10/25/2011 | Advanced polymer technology | (G) Polymer crosslinking agent | (S) Imidodicarbonic diamide, n,n-dibutyl-n′,2-bis[4-[(4-isocyanatophenyl)methyl]phenyl]-.
P-11-0549 | 8/1/2011 | 10/29/2011 | CBI | (G) Heat transfer fluid | (S) 2-butene, 1,1,1,4,4,4-hexafluoro-, (2z)-.
P-11-0550 | 8/2/2011 | 10/30/2011 | Sika Corporation | (G) Used as an emulsifier in a hardener of a waterborne 2 part epoxy system | (G) N-coco alkyltrimethylene0-, polymers with bisphenol a, epichlorohydrin and amodified aliphatic amine.
P-11-0551 | 8/2/2011 | 10/30/2011 | Sika Corporation | (G) Used as an emulsifier in a hardener of a waterborne 2 part epoxy system | (G) N-coco alkyltrimethylenedi-, polymer with bisphenol a, epichlorohydrin and modified aliphatic amine.
P-11-0552 | 8/1/2011 | 10/29/2011 | CBI | (G) Productivity aid in the paper industry | (G) Polyaminoamide, sulfate salt.
P-11-0553 | 8/2/2011 | 10/30/2011 | CBI | (G) Coatings | (G) Urethane acrylate.
P-11-0554 | 8/2/2011 | 10/30/2011 | CBI | (G) Fuel blending component | (G) Petroleum distillate lights.
P-11-0555 | 8/2/2011 | 10/30/2011 | CBI | (G) Coating agent | (G) 2-propenoic acid, 2-methyl-1,1-dimethylethyl ester, polymer with 2,2-dimethyl-1,3-propanediol, ethenylbenzene, 2-ethyl-2-(hydroxymethyl)-1,3-propanediol, cycloaliphatic dicarboxylic anhydride and 1,2-propanediol mono(2-methyl-2-propenoate), bis(1,1-dimethylpropyl)peroxide-initiated.
P-11-0556 | 8/2/2011 | 10/30/2011 | CBI | (G) Coating agent | (G) 2-propenoic acid, 2-methyl-, polymer with 2,2-dimethyl-1,3-propanediol, ethenylbenzene, 2-ethyl-2-(hydroxymethyl)-1,3-propanediol, cycloaliphatic dicarboxylic anhydride, 2-hydroxyethyl 2-methyl-2-propenoate, methyl 2-methyl-2-propenoate and 2-methylpropyl 2-methyl-2-propenoate, 2-hydroxy-3-[(1-oxoneodecy]- oxy]propyl ester.
P-11-0557 | 8/3/2011 | 10/31/2011 | CBI | (G) Water and oil repellant | (G) 2-propenoic acid, 2-methyl-, 2-hydroxyethyl ester, telomers with c18-26 alkyl acrylate, 1-dodecanthiol, n-(hydroxymethyl)-2-methyl-2-propenamide, polyfluorooctyl methacrylate and vinylidene chloride, 2,2′-[1,2-diazenediylbis(1-methylethylidene)]-bis[4,5-dihydro-1h-imidazole]hydrochloride (1:2)-initiated.
P-11-0558 | 8/3/2011 | 10/31/2011 | CBI | (G) Component of cleaning agent used in electronic applications. | (S) D-glucitol, 1,2,3,4,5,6-hexakis-o-[3-(hydroxyamino)-3-iminopropyl]-.
P-11-0559 | 8/4/2011 | 11/1/2011 | CBI | (G) Releasing agent | (G) Polyglycerol fatty acid ester.
P-11-0560 | 8/4/2011 | 11/1/2011 | Moresco USA Inc | (S) Additive-grease for bearings | (G) Alkylated diphenyl ethers.
P-11-0561 | 8/4/2011 | 11/1/2011 | CBI | (S) Automotive fuel hose; semi conductor/chemical tubing | (G) Tetrafluoroethylene chlorotrifluoroethylene copolymer.
P-11-0562 | 8/8/2011 | 11/5/2011 | Ask chemicals L.P | (G) Import only | (G) Vegetable oil, modified.
P-11-0563 | 8/8/2011 | 11/5/2011 | Ask chemicals L.P | (G) Import only | (G) Vegetable oil, modified.
P-11-0564 | 8/8/2011 | 11/5/2011 | Colonial Chemical, Inc | (S) Hard surface cleaner | (S) D-glucopyranose, oligomeric, c10-16-alkyl decyl octyl glycosides, 3-[(carboxymethyl)bis(2-hydroxyethyl)ammonio]-2-hydroxypropyl ethers, inner salts, polymers with 1,3-dichloro-2-propanol.
P-11-0565 | 8/8/2011 | 11/5/2011 | Colonial Chemical, Inc | (S) Hard surface cleaner | (S) D-glucopyranose, oligomeric, c10-16-alkyl glycosides, 3-[(carboxymethyl)bis(2-hydroxyethyl)ammonio]-2-hydroxypropyl ethers, inner salts, polymers with 1,3-dichloro-2-propanol.
P-11-0566 | 8/8/2011 | 11/5/2011 | CBI | (G) Component of an industrial coating | (G) Cycloaliphatic polyacid functional polyester.
P-11-0567 | 8/8/2011 | 11/5/2011 | CBI | (G) Manufacturing of elastomer containing items | (G) Fluoropolymer.
P-11-0568 | 8/8/2011 | 11/5/2011 | CBI | (G) Film, wire and cable | (G) Fluoropolymer.
P-11-0569 | 8/8/2011 | 11/5/2011 | CBI | (G) Manufacturing of elastomer containing items | (G) Fluoropolymer.
P-11-0570 | 8/8/2011 | 11/5/2011 | CBI | (G) Industrial lubricant | (G) Polypentaerythritol, mixed esters with mono carboxylic acids.
P-11-0571 | 8/10/2011 | 11/7/2011 | 3M Company | (G) Intermediate | (G) Aryloxy dialkanol.
P-11-0572 | 8/11/2011 | 11/8/2011 | Henkel Corporation | (S) An adhesive used for panel lamination and other assemblies | (S) 1,4-cyclohexanedimethanol, polymer with 2-hydroxymethylethyl-terminated polybutadiene and 1,1′-methylenebis[4-isocyanatobenzene], c14 alcs.-blocked.
P-11-0573 | 8/11/2011 | 11/8/2011 | CBI | (G) For use as an exterior can coating | (G) Acrylic latex resin.
P-11-0574 | 8/11/2011 | 11/8/2011 | CBI | (G) For use as an exterior can coating | (G) Acrylic latex resin.
P-11-0575 | 8/11/2011 | 11/8/2011 | CBI | (G) For use as an exterior paper coating | (G) Fatty acid modified pet.
P-11-0576 | 8/11/2011 | 11/8/2011 | CBI | (G) For use as an exterior paper coating | (G) Fatty acid modified pet.
P-11-0577 | 8/12/2011 | 11/9/2011 | International flavors & Fragrances, Inc | (S) Fragrance ingredient | (S) Butanoic acid, 3-mercapto-, ethyl ester.
P-11-0578 | 8/12/2011 | 11/9/2011 | Eastman Kodak Company | (S) Intermediate | (S) Benzoic acid, 4-(1,1-dimethylethyl)-, hydrazide.
P-11-0579 | 8/12/2011 | 11/9/2011 | Eastman Kodak Company | (S) Intermediate | (S) 1h-1,2,4-triazole-3-acetic acid, 5-[4-(1,1-dimethylethyl)phenyl]-.
P-11-0580 | 8/12/2011 | 11/9/2011 | Eastman Kodak Company | (S) Intermediate | (S) Cyclohexanol, 2,6-bis(1,1-dimethylethyl)-4-methyl-.
P-11-0581 | 8/12/2011 | 11/9/2011 | Eastman Kodak Company | (S) Intermediate in the manufacture of an imaging chemical | (S) 1h-1,2,4-triazole-5-acetic acid, 1-acetyl-3-[4-(1,1,-dimethylethyl)phenyl]-, 2,6-bis(1,1-dimethylethyl)-4-methylcyclohexyl ester.
P-11-0582 | 8/12/2011 | 11/9/2011 | Eastman Kodak Company | (S) Intermediate in manufacture of imaging chemical | (S) 1h-1,2,4-triazole-5-acetic acid, 1-acetyl-.alpha.-bromo-3-[4-(1,1-dimethylethyl)phenyl]-, 2,6-bis(1,1-dimethylethyl)-4-methylcyclohexyl ester.
P-11-0583 | 8/12/2011 | 11/9/2011 | Eastman Kodak Company | (S) Coupler for imaging products; for export | (S) 3h-pyrrolo[1,2-b][1,2,4]triazole-7-carboxylic acid, 5-[[[bis(2-ethoxy-2-oxoethyl)amino]carbonyl]oxy]-6-cyano-2-[4-(1,1-dimethylethyl)phenyl]-, 2,6-bis(1,1-dimethylethyl)-4-methylcyclohexyl ester.
P-11-0584 | 8/12/2011 | 11/9/2011 | CBI | (S) Crosslinker for waterborne polymers/coatings | (G) Isocyanate crosslinker.
P-11-0585 | 8/15/2011 | 11/12/2011 | AOC L.L.C. | (S) Polymer component for laminating of fiber reinforced plastic composites | (S) 1,4-benzenedicarboxylic acid, polymer with 1,2-ethanediol, 2,5-furandione and 1,2-propanediol, reaction products with dicyclopentadiene.
P-11-0586 | 8/16/2011 | 11/13/2011 | CBI | (G) Dyestuff | (G) Substituted phthalocyanine derivative.
P-11-0587 | 8/16/2011 | 11/13/2011 | CBI | (G) Dyestuff | (G) Substituted benzimidazol sulfonic acid.
P-11-0588 | 8/17/2011 | 11/14/2011 | CBI | (G) Plastic additive | (G) Alkyl amine ester.
P-11-0589 | 8/19/2011 | 11/16/2011 | Wacker Chemical Corporation | (G) For both uses the production “is 100% because after industrial production formulations they are 100% consumed during final application” | (G) Copolymer of vinyl alkanoates and alkene sulfonic acid sodium salt.
P-11-0590 | 8/19/2011 | 11/16/2011 | CBI | (G) Dispersant | (G) Alkyl acrylate, (alkylamino)alkyl ester, telomer with alkyl acrylate and dialkyl- trialkyl-alkoxyaromatic- heterocycloaliphaticketone.
P-11-0591 | 8/19/2011 | 11/16/2011 | CBI | (G) Lamination adhesive | (G) Ipdi modified polyester resin.
P-11-0592 | 8/19/2011 | 11/16/2011 | CBI | (G) Site limited intermediate | (G) 2-substituted phtalic acid ester.
P-11-0593 | 8/22/2011 | 11/19/2011 | CBI | (G) Component of polyurethane foam | (G) Formaldehydem reaction products with alkylphenol and diethanolamine, alkoxy alkylated.
P-11-0594 | 8/22/2011 | 11/19/2011 | CBI | (G) Rubber component | (G) Mercaptoalkoxysilane.
P-11-0595 | 8/23/2011 | 11/20/2011 | Dow Chemical Company | (G) Water reducer in concrete intermediate | (G) Sodium salt initiated acrylic polymer.
P-11-0596 | 8/23/2011 | 11/20/2011 | CBI | (S) Polyurethane catalyst | (G) Hexanedioic acid, compound with polyalkylenepolyamine.
P-11-0597 | 8/24/2011 | 11/21/2011 | CBI | (G) Packaging material | (G) Poly(3-hydroxybutyrate).
P-11-0598 | 8/24/2011 | 11/21/2011 | CBI | (G) Packaging material | (G) Poly(3-hydroxybutyrate).
P-11-0599 | 8/24/2011 | 11/21/2011 | CBI | (G) Packaging material | (G) Poly(3-hydroxybutyrate).
P-11-0600 | 8/24/2011 | 11/21/2011 | CBI | (G) Packaging material | (G) Poly(3-hydroxybutyrate).
P-11-0601 | 8/24/2011 | 11/21/2011 | CBI | (G) Packaging material | (G) Poly(3-hydroxybutyrate).
P-11-0602 | 8/24/2011 | 11/21/2011 | CBI | (G) Packaging material | (G) Poly(3-hydroxybutyrate).
P-11-0603 | 8/25/2011 | 11/22/2011 | CBI | (G) Additive for manufacture of articles | (G) Modified starch acrylate polymer.
P-11-0604 | 8/26/2011 | 11/23/2011 | CBI | (S) Polymer for flame-retardant coatings | (G) Flame retardant polymer for coatings.
P-11-0605 | 8/26/2011 | 11/23/2011 | CBI | (G) Resin for protective industrial coatings | (G) Water based acrylic dispersion.
P-11-0606 | 8/26/2011 | 11/23/2011 | CBI | (G) Contained use in energy production | (G) Cationic polyacrylate.
P-11-0607 | 8/26/2011 | 11/23/2011 | CBI | (G) Additve flame retardant (open, non-dispersive use) | (G) Polyaromatic organophosphorus compound.
P-11-0608 | 8/26/2011 | 11/23/2011 | CBI | (G) Epoxy catalyst | (S) 1,3-benzenediol, 4-[1-[[3-(1h-imidazol-1-yl)propyl]imino)ethyl]-.

In Table II. of this unit, EPA provides the following information (to the extent that such information is not claimed as CBI) on the TMEs received by EPA during this period: The EPA case number assigned to the TME, the date the TME was received by EPA, the projected end date for EPA's review of the TME, the submitting manufacturer/importer, the potential uses identified by the manufacturer/importer in the TME, and the chemical identity.

Table II—4 TMEs Received From July 1, 2011 to August 26, 2011
Case no. | Received date | Projected notice end date | Manufacturer/Importer | Use | Chemical
T-11-0011 | 7/14/2011 | 8/27/2011 | CBI | (S) Wastewater heavy metals removal | (G) Polymeric sulfide.
T-11-0012 | 7/29/2011 | 9/11/2011 | Shell Chemical LP | (S) This product is a gas to liquids (gtl)” base oil used for drilling fluids and a guar polymer and/or proppant carrier for hydraulic fracturing” | (S) Distillates(fischer-tropsch), c10-20 branched and linear.
T-11-0013 | 8/1/2011 | 9/14/2011 | CBI | (G) Productivity aid in the paper industry | (G) Polyaminoamide, sulfate salt.
T-11-0014 | 8/2/2011 | 9/15/2011 | CBI | (G) Fuel blending component | (G) Petroleum distillate lights.

In Table III. of this unit, EPA provides the following information (to the extent that such information is not claimed as CBI) on the NOCs received by EPA during this period: The EPA case number assigned to the NOC, the date the NOC was received by EPA, the projected end date for EPA's review of the NOC, and chemical identity.

Table III— 63 NOCs Received From July 1, 2011 to August 26, 2011
Case no. | Received date | Commencement notice end date | Chemical
P-06-0370 | 7/25/2011 | 7/14/2011 | (S) Benzoic acid nonyl ester, branched and linear.
P-07-0298 | 7/27/2011 | 6/30/2011 | (G) Ethyl methacrylate based polymer.
P-08-0052 | 8/25/2011 | 8/16/2011 | (S) Nitrotriazolone 3-nitro-1,2,4-triazol-5-one.
P-08-0359 | 7/22/2011 | 6/27/2011 | (G) Alkyl alcohol reaction product with alkyl diisocyanate.
P-08-0620 | 7/26/2011 | 7/3/2011 | (G) Lauryllactam, polymer with alkanedicarboxylic acid and alkanediamine.
P-09-0129 | 7/13/2011 | 7/4/2011 | (G) Aqueous polyurethane resin dispersion.
P-09-0434 | 7/25/2011 | 6/7/2011 | (S) 7-octen-4-one, 2,6-dimethyl-.
P-09-0515 | 8/24/2011 | 3/16/2011 | (S) 2,5-furandione, polymer with 2-methyl-1-propene, amide, ammonium salt.
P-09-0628 | 7/6/2011 | 6/13/2011 | (G) 1-substituted propane, 3-(triethoxysilyl)-, reaction products with polyethylene glycol mono-branched tridecyl) ether.
P-09-0639 | 7/14/2011 | 6/21/2011 | (G) Alkyl substituted azo metal salt.
P-10-0047 | 8/2/2011 | 7/12/2011 | (G) Alkenoic acid, 2-methyl-, 2-oxiranylmethyl ester, reaction products with 4,4′-methylenebis (cyclohexanamine).
P-10-0064 | 7/29/2011 | 7/6/2011 | (G) Amidosilane.
P-10-0081 | 8/25/2011 | 7/12/2011 | (G) Phenol, polymer with formaldehyde, glycidyl ether, reaction products with 5-amino-1,3,3-trialkylcycloalkanemethanamine.
P-10-0083 | 8/2/2011 | 7/12/2011 | (G) Hydroxy-aryl, polymer with substituted benzene, cyanate.
P-10-0084 | 7/14/2011 | 6/21/2011 | (G) Carbazole violet sulfonamide derivs.
P-10-0152 | 7/26/2011 | 7/19/2011 | (G) Phosphated polyalkoxylate.
P-10-0175 | 7/15/2011 | 6/21/2011 | (G) Aliphatic hydroxyfunctional polyester-polyurethane dispersion.
P-10-0275 | 7/28/2011 | 7/12/2011 | (G) Substituted polyhydro-oxo-naphthalene sulfonate with alkylidene polycarbomonocycle.
P-10-0278 | 7/28/2011 | 7/12/2011 | (G) Polycarbomono cyclic sulphonium camphosulphonate.
P-10-0370 | 7/8/2011 | 6/8/2011 | (G) Alkylol methacrylate.
P-10-0438 | 7/26/2011 | 7/19/2011 | (G) Polyacrylic polyether graft.
P-10-0471 | 7/25/2011 | 7/21/2011 | (G) Fluoro modified polyether modified polyacrylate.
P-10-0472 | 7/25/2011 | 7/21/2011 | (G) Fluoro modified polyether modified polyacrylate.
P-10-0500 | 7/28/2011 | 7/12/2011 | (G) Oxybiscarbomonocyclic acid, polymer with oxybis[heteropolycyclic ketone],(alkyl(c=1-4)-substituted bis [alkyl(c=2-5)amine],[halo(haloalkyl(c=1-4)alkylidene]bis[aminocarbomonocyclic )alcohol] and [halo(haloalkyl(c=1-4)alkyidene]bis(hydroxycarbomonocycle)]bis[aminobenzamide], alkyl(c=1-4)ester.
P-10-0509 | 7/22/2011 | 6/24/2011 | (G) Ester polyol, fatty acid ester.
P-10-0543 | 7/28/2011 | 7/12/2011 | (G) Substituted polyhydro-oxo-naphthalene sulfonate with alkylidyne polycarbomonocycle.
P-10-0579 | 7/21/2011 | 6/28/2011 | (G) Aromatic isocyanate, polymer with alkoxides and diol.
P-10-0588 | 8/24/2011 | 7/30/2011 | (S) Benzenamine, 4,4′-[1,3-phenylenebis(1-methylethylidene)]bis-.
P-11-0027 | 7/28/2011 | 7/12/2011 | (G) (methoxymethyl) hydrocarbomonocycle.
P-11-0035 | 8/3/2011 | 8/2/2011 | (G) Alkyl alkoxy sulfate sodium salt.
P-11-0058 | 8/26/2011 | 8/23/2011 | (G) Aromatic diol, diaryl carboxylate.
P-11-0076 | 7/1/2011 | 6/28/2011 | (G) Polyurethane derivative.
P-11-0106 | 7/18/2011 | 6/21/2011 | (G) Unsaturated fatty acids, amides with polyethylenepolyamine.
P-11-0107 | 7/18/2011 | 6/22/2011 | (G) Fatty acids, amides with triethylenetetramine.
P-11-0108 | 7/11/2011 | 6/17/2011 | (G) Substituted alkanoic acid, polymer with alkanoic acid alkyl esters, with substituted polyglycol-initiated.
P-11-0151 | 8/1/2011 | 7/28/2011 | (G) N-sulfoalkyl-aminocarbonylalkenyl, polymer modified with n,n-dialkyl-aminocarbonylalkenyl, sodium salt.
P-11-0167 | 7/6/2011 | 6/15/2011 | (G) Aromatic isocyanate polymer with alkyldioic acid, polyol, and unsaturated alkyl acid.
P-11-0175 | 7/15/2011 | 6/25/2011 | (G) Polyglycerol fatty acid ester.
P-11-0185 | 8/17/2011 | 7/27/2011 | (G) Oil derived from the pyrolysis of rubber tire shreds.
P-11-0194 | 7/22/2011 | 7/4/2011 | (S) 1,2,3-propanetricarboxylic acid, 2-(acetyloxy)-, 1,2,3-tris(2-ethylhexyl) ester.
P-11-0199 | 7/21/2011 | 7/12/2011 | (G) Acrylic polymer.
P-11-0200 | 8/23/2011 | 8/17/2011 | (G) Aluminum alkoxide complex, alkoxylated aluminum chelate.
P-11-0215 | 8/10/2011 | 7/21/2011 | (S) 2-propenoic acid, 2-methyl-, dodecyl ester, telomer with methyl 2-methyl-2-propenoate, tridecyl 2-methyl-2-propenoate, 3-(trimethoxysilyl)-1-propanethiol and 3-(trimethoxysilyl) propyl 2-methyl-2-propenoate.
P-11-0216 | 8/10/2011 | 7/21/2011 | (S) 2-propenoic acid, 2-methyl-, dodecyl ester, telomer with butyl 2-propenoate, methyl 2-methyl-2-propenoate, tridecyl 2-methyl-2-propenoate, 3-(trimethoxysilyl)-1-propanethiol and 3-(trimethoxysilyl) propyl 2-methyl-2-propenoate.
P-11-0218 | 7/26/2011 | 7/25/2011 | (G) Benzenedioic acid, polymer with alkanediol and carboxyaminoalkyl carbamic acid alkoxyalkylester.
P-11-0223 | 8/23/2011 | 8/11/2011 | (G) Substituted tris-phenyl thiophenyl-sulfonium halogenide.
P-11-0229 | 7/26/2011 | 7/13/2011 | (G) Polyester, polymer with 1,4-butanediol, dodecanedioic, 1,6-heaxanediol, .alpha.-hydro-.omega.-hydroxypoly (oxy-1,4-butanediyl) and isocyanate.
P-11-0255 | 8/4/2011 | 8/3/2011 | (S) D-glucopyranose, oligomeric, decyl octyl glycosides, 2,3-dihydroxypropyl ethers, phosphates, sodium salts, polymers with 1,3-dichloro-2-propanol.
P-11-0261 | 7/12/2011 | 7/5/2011 | (S) Aluminum barium europium magnesium oxide.
P-11-0262 | 7/19/2011 | 7/18/2011 | (S) Europium strontium borate metaphosphate oxide.
P-11-0280 | 7/25/2011 | 7/23/2011 | (G) Epoxy modified alkyd resin, partially neutralized.
P-11-0281 | 7/14/2011 | 6/27/2011 | (S) Fatty acids, lanolin, esters with cholesterol-low lanolin alcs.
P-11-0282 | 7/14/2011 | 6/27/2011 | (S) Fatty acids, c10-30, esters with cholesterol-low lanolin alcs.
P-11-0286 | 7/21/2011 | 7/20/2011 | (G) Blocked polyester polyurethane, neutralized.
P-11-0289 | 8/8/2011 | 7/27/2011 | (S) Heptanoic acid, 1,2,3-propanetriyl ester (9ci).
P-11-0293 | 8/4/2011 | 7/29/2011 | (S) D-glucopyronase, oligomeric, c10-16-alkyl glycosides, 2-hydroxy-3-sulfopropyl ethers, sodium salts, polymers with 1,3-dichloro-2-propanol.
P-11-0298 | 8/11/2011 | 7/18/2011 | (G) Ethoxylated epoxy amine polymer.
P-11-0299 | 8/11/2011 | 7/18/2011 | (G) Polypropylene glycol, epoxy amine polymer.
P-11-0306 | 8/19/2011 | 7/28/2011 | (G) Tertiary amine acrylate.
P-11-0308 | 8/11/2011 | 7/26/2011 | (G) Acrylic polymer.
P-11-0334 | 8/23/2011 | 8/20/2011 | (G) Aliphatic and alicyclic alcohol type polyester.
P-11-0350 | 8/16/2011 | 8/11/2011 | (S) Phenol, 4,4′-sulfonylbis-, bis(mixed acetates and propionates).
P-11-0367 | 8/19/2011 | 8/11/2011 | (G) Elastomer polyurethane.

If you are interested in information that is not included in these tables, you may contact EPA as described in Unit II. to access additional non-CBI information that may be available.

List of Subjects

Environmental Protection, Chemicals, Hazardous substances, Imports, Notice of Commencement, Premanufacturer, Reporting and recordkeeping requirements, Test marketing exemptions.

Dated: September 9, 2011.
Darryl S. Ballard,
Acting Director, Information Management Division, Office of Pollution Prevention and Toxics.

[FR Doc. 2011-23973 Filed 9-20-11; 8:45 am]

BILLING CODE 6560-50-P